DEPARTMENT OF HEALTH AND HUMAN SERVICES

Centers for Disease Control and Prevention

Subcommittee on Procedures Review, Advisory Board on Radiation and Worker Health (ABRWH), National Institute for Occupational Safety and Health (NIOSH)

In accordance with section 10(a)(2) of the Federal Advisory Committee Act (Pub. L. 92-463), the Centers for Disease Control and Prevention (CDC) announces the following meeting for the aforementioned subcommittee:

Time and Date: 11:00 a.m.-5:00 p.m. Eastern Time, November 7, 2013.

Place: Audio Conference Call via FTS Conferencing. The USA toll-free, dial-in number is 1 (866) 659-0537 and the pass code is 9933701.

Status: Open to the public, but without a public comment period. The instructions for the submission of written comments are provided in the section entitled “MATTERS TO BE DISCUSSED.” To access by conference call dial the following information 1 (866) 659-0537, Participant Pass Code 9933701.

Background: The ABRWH was established under the Energy Employees Occupational Illness Compensation Program Act of 2000 to advise the President on a variety of policy and technical functions required to implement and effectively manage the compensation program. Key functions of the ABRWH include providing advice on the development of probability of causation guidelines that have been promulgated by the Department of Health and Human Services (HHS) as a final rule; advice on methods of dose reconstruction which have also been promulgated by HHS as a final rule; advice on the scientific validity and quality of dose estimation and reconstruction efforts being performed for purposes of the compensation program; and advice on petitions to add classes of workers to the Special Exposure Cohort (SEC).

In December 2000, the President delegated responsibility for funding, staffing, and operating the ABRWH to HHS, which subsequently delegated this authority to CDC. NIOSH implements this responsibility for CDC. The charter was issued on August 3, 2001, renewed at appropriate intervals, and will expire on August 3, 2015.

Purpose: The ABRWH is charged with (a) providing advice to the Secretary, HHS, on the development of guidelines under Executive Order 13179; (b) providing advice to the Secretary, HHS, on the scientific validity and quality of dose reconstruction efforts performed for this program; and (c) upon request by the Secretary, HHS, advising the Secretary on whether there is a class of employees at any Department of Energy facility who were exposed to radiation but for whom it is not feasible to estimate their radiation dose, and on whether there is a reasonable likelihood that such radiation doses may have endangered the health of members of this class. The Subcommittee on Procedures Review was established to aid the ABRWH in carrying out its duty to advise the Secretary, HHS, on dose reconstructions. The Subcommittee on Procedures Review is responsible for overseeing, tracking, and participating in the reviews of all procedures used in the dose reconstruction process by the NIOSH Division of Compensation Analysis and Support (DCAS) and its dose reconstruction contractor (Oak Ridge Associated Universities—ORAU).

Matters To Be Discussed: The agenda for the Subcommittee meeting includes discussion of the following ORAU and DCAS procedures: ORAU Team Technical Information Bulletin (OTIB) 054 (“Fission and Activation Product Assignment for Internal Dose-Related Gross Beta and Gross Gamma Analyses”), Program Evaluation Report (PER) 011 (“K-25 TBD and TIB Revisions”), PER 014 (“Construction Trades Workers”), PER 020 (“Blockson TBD Revision”), PER 25 (“Huntington Pilot Plant TBD Revision”), PER 030 (“Savannah River Site TBD Revisions”), PER 031 (“Y-12 TBD Revisions”), PER 033 (“Reduction Pilot Plant TBD Revision”), PER 038 (“Hooker Electrochemical TBD Revisions”); Update on Review of ORAU Team Report 0053 (“Stratified Co-Worker Sets); estimating radiation doses associated with localized skin exposures to uranium at Atomic Weapons Employer facilities; International Commission on Radiological Protection Publication 116 (“Conversion Coefficients for Radiological Protection Quantities for External Radiation Exposures”); and a continuation of the comment-resolution process for other dose reconstruction procedures under review by the Subcommittee.

The agenda is subject to change as priorities dictate.

This meeting is open to the public, but without a public comment period. In the event an individual wishes to provide comments, written comments may be submitted. Any written comments received will be provided at the meeting and should be submitted to the contact person below in advance of the meeting.

Contact Person for More Information: Theodore Katz, Designated Federal Official, NIOSH, CDC, 1600 Clifton Road, Mailstop E-20, Atlanta GA 30333, Telephone (513) 533-6800, Toll Free 1 (800) CDC-INFO, Email dcas@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2013-24339 Filed 10-21-13; 8:45 am]

BILLING CODE 4163-18-P